DEPARTMENT OF DEFENSE

Office of the Secretary

Defense Science Board; Meeting Date Change

ACTION: Meeting date change.

SUMMARY: The Defense Science Board Task Force on Systems Technology for the Future U.S. Strategic Posture closed meeting scheduled for April 11-12, 2001, has been changed to April 30, 2001; May 1, 2001; and May 2, 2001. The meeting will be held at Strategic Analysis Inc., 3601 Wilson Boulevard, Suite 600, Arlington VA.

Dated: March 29, 2001.
L.M. Bynum,
Alternate OSD Federal Register Liaison Officer, Department of Defense.

[FR Doc. 01-8320 Filed 4-4-01; 8:45 am]

BILLING CODE 5001-01-M